DEPARTMENT OF TRANSPORTATION

Federal Highway Administration

Notice of Final Federal Agency Actions on Proposed Highway in Alaska

AGENCY: Federal Highway Administration (FHWA), DOT.

ACTION: Notice of Limitation on Claims for Judicial Review of Actions by FHWA.

SUMMARY: This notice announces actions taken by the FHWA that are final within the meaning of 23 U.S.C. 139(l)(1). The action relates to a proposed highway project, the Knik Arm Crossing (KAC) Project, providing a new roadway and bridge connection between the Matanuska-Susitna (Mat-Su) Borough and the Municipality of Anchorage within the State of Alaska. Those actions grant approvals for the project.

DATES: By this notice, the FHWA is advising the public of final agency actions subject to 23 U.S.C. 139(l)(1). A claim seeking judicial review of the Federal agency actions on the listed highway project will be barred unless the claim is filed on or before July 5, 2011. If the Federal law that authorizes judicial review of a claim provides a time period of less than 180 days for filing such claim, then that shorter time period still applies.

FOR FURTHER INFORMATION CONTACT: For FHWA: Mr. David C. Miller, Division Administrator, FHWA Alaska Division, P.O. Box 21648, Juneau, Alaska 99802-1648; office hours 8 a.m. to 4:30 p.m. (AST), phone (907) 586-7418; e-mail david.c.miller@dot.gov. You may also contact Mr. Andrew Niemiec, Executive Director, Knik Arm Bridge and Toll Authority (KABATA), 550 West 7th Avenue, Suite 1850, Anchorage, Alaska 99501; office hours 8 a.m. to 5 p.m. (AST), phone (907) 269-6698; e-mail andrew.niemic@alaska.gov.

SUPPLEMENTARY INFORMATION: Notice is hereby given that the FHWA has taken final agency actions subject to 23 U.S.C. 139(l)(1) by issuing approvals for the following highway project in the State of Alaska: Project Number ACSTP-0001(277)/56047; Project Location: The KAC Project (Northern Access-Erickson Alternative with the Southern Alignment). The project is planned to be constructed in two phases. Phase 1 construction is a two lane facility with a minimum 8,200-foot bridge length which begins at the intersection of Point MacKenzie Road and Burma Road in the Mat-Su, and follows Point MacKenzie Road southward approximately 9.5 miles to the Port MacKenzie District boundary. It then diverges east on a new alignment and loops north of Lake Lorraine before making a broad turn southward to the western bluff of Knik Arm. The crossing of the Knik Arm follows the Southern Alignment to east side, south along the bluffs, then follows the boundaries of Elmendorf Air Force Base and the Port of Anchorage. The initial connection to downtown Anchorage will go under Government Hill using the Erickson Street alternative with a cut and cover tunnel and connections to A and C Streets. When traffic warrants Phase 2 will be constructed, which includes widening the roadway to four lanes and constructing a connection across Ship Creek to Ingra and Gambell Streets.

The actions by the Federal agencies, and the laws under which such actions were taken, are described in the Final Environmental Impact Statement (FEIS)/Final Section 4(f) Evaluation for the project, approved on December 22, 2007, in the FHWA Record of Decision (ROD) issued on December 15, 2010, and in other documents in the FHWA or KABATA project files. The FEIS, ROD, and other project records are available by contacting the FHWA or KABATA at the addresses provided above. The FHWA FEIS and ROD can be viewed and downloaded from the project Web site at http://www.knikarmbridge.com or viewed at the addresses provided above.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Marine Mammal Protection Act [16 U.S.C. 1361]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ii)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation [23 U.S.C. 103(b)(6)(M) and 133(b)(11)]; Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: December 16, 2010.
Sandra Garcia-Aline,
Assistant Division Administrator, Juneau, Alaska.

[FR Doc. 2010-33085 Filed 1-3-11; 8:45 am]

BILLING CODE 4910-RY-P